DEPARTMENT OF HOMELAND SECURITY

Coast Guard

[Docket No. USCG-2019-0754]

National Maritime Security Advisory Committee; Initial Solicitation for Members

AGENCY: Coast Guard, Department of Homeland Security.

ACTION: Request for applications.

SUMMARY: The Coast Guard is requesting applications from persons interested in serving as a member of the National Maritime Security Advisory Committee (“Committee”). This Committee will advise the Secretary of the Department of Homeland Security, via the Commandant of the U.S. Coast Guard, on matters relating to national maritime security, including on enhancing the sharing of information related to cybersecurity risks that may cause a transportation security incident, between relevant Federal agencies and State, local, and tribal governments; relevant public safety and emergency response agencies; relevant law enforcement and security organizations; maritime industry; port owners and operators; and terminal owners and operators. Please read this notice for a description of 21 Committee positions we are seeking to fill.

DATES: Your completed application should reach the Coast Guard on or before April 20, 2020.

ADDRESSES: Applicants should send a cover letter expressing interest in an appointment to the National Maritime Security Advisory Committee and a resume detailing the applicant's experience. We will not accept a biography.

Applications should be submitted via one of the following methods:

• By Email: ryan.f.owens@uscg.mil (preferred);

• By Fax: 202-372-8428; ATTN: Ryan F. Owens, Alternate Designated Federal Officer; or

• By Mail: Mr. Ryan F. Owens, Alternate Designated Federal Officer, Commandant (CG-FAC-1), U.S. Coast Guard Stop 7501, 2703 Martin Luther King Jr. Avenue SE, Washington, DC 20593-7501.

FOR FURTHER INFORMATION CONTACT: Mr. Ryan Owens, Alternate Designated Federal Officer of the National Maritime Security Advisory Committee; Telephone 202-372-1108; or Email at ryan.f.owens@uscg.mil.

SUPPLEMENTARY INFORMATION: The National Maritime Security Advisory Committee is a Federal advisory committee. It will operate under the provisions of the Federal Advisory Committee Act, 5 U.S.C., Appendix, the administrative provisions contained in section 601 of the Frank LoBiondo Coast Guard Authorization Act of 2018 (CGAA18), Public Law 115-282, 132 Stat. 4192, the Maritime Transportation Security Act of 2002 (Pub. L. 107-295, November 25, 2002, as codified in 46 U.S.C. Chapter 701, 46 U.S.C. 70101 et seq.), and the provisions of section 15109 of Title 46 of the U.S. Code (46 U.S.C. 15109).

The establishment of the Committee is authorized under Maritime Transportation Security Act of 2002 as amended by the Frank LoBiondo Coast Guard Authorization Act of 2018.

Under 46 U.S.C. 15109, the Committee is to advise the Secretary of Homeland Security on matters relating to national maritime security, including on enhancing the sharing of information related to cybersecurity risks that may cause a transportation security incident, between relevant Federal agencies and—

A. State, local, and tribal governments;

B. relevant public safety and emergency response agencies;

C. relevant law enforcement and security organizations;

D. maritime industry;

E. port owners and operators; and

F. terminal owners and operators.

The Committee is required to hold meetings at least once a year in accordance with 46 U.S.C. 15109(a). We expect the Committee to meet at least twice a year, but it may meet more frequently.

The members listed above are appointed to represent the interests of their respective organizations or associations. They are only considered Special Government Employees, as defined in 18 U.S.C. 202(a), for purposes of (1) 5 U.S.C. 8101-8193; (2) 28 U.S.C. 2671-2680; (3) any other Federal law relating to tort liability; and when they are existing Special Government employees as provided in 46 U.S.C. 15109(e)(2)(B).

The only compensation the members may receive is for travel expenses, including per diem in lieu of subsistence, and/or actual and reasonable expenses incurred in the performance of their direct duties at the Committee.

Under the provisions in 46 U.S.C. 15109(f)(6), if you are appointed as a member of the Committee, your membership term will expire on December 31 of the third full year after the effective date of your appointment. In this initial solicitation for Committee members, we will consider applications for 21 positions:

• Port authorities.

• Facilities owners and operators.

• Terminal owners and operators.

• Vessel owners and operators.

• Maritime labor organizations.

• The academic community.

• State and local governments.

• The maritime industry.

Each member of the Committee must have particular expertise, knowledge, and experience in matters relating to the function of the Committee, which is to advise the Secretary of Homeland Security on the matters described above.

Under 46 U.S.C. 15109(f)(4), its members are required to apply for, obtain, and maintain a government national security clearance at the Secret level. The U.S. Coast Guard will sponsor and assist candidates with this process.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Mr. Ryan Owens, Alternate Designated Federal Officer of the National Maritime Security Advisory Committee via one of the transmittal methods in the ADDRESSES section by the deadline in the DATES section of this notice. If you send your application to us via email, we will send you an email confirming receipt of your application.

Dated: January 31, 2020.
David C. Barata,
Captain, U.S. Coast Guard, Director of Inspections and Compliance.

[FR Doc. 2020-03114 Filed 2-14-20; 8:45 am]

BILLING CODE 9110-04-P